DEPARTMENT OF ENERGY

Federal Energy Regulatory Commission

[Docket Nos. CP00-14-000, CP00-15-000, and CP00-16-000]

Buccaneer Gas Pipeline Company, L.L.C.; Notice of Site Visit

April 18, 1999.

On April 24 through April 27, 2000, the Office of Energy Projects staff will conduct a site visit of proposed facilities and alternatives with representatives of Buccaneer Gas Pipeline Company, of the Buccaneer Gas Pipeline Project In Pasco, Osceola, Polk, Hardee, Lake, and Brevard, Counties, Florida.

All interested parties may attend. Those planning to attend must provide their own transportation.

For further information, please contact Paul McKee at (202) 208-1088.

David P. Boerger,
Secretary.

[FR Doc. 00-10097 Filed 4-21-00; 8:45 am]

BILLING CODE 6717-01-M